DEPARTMENT OF AGRICULTURE

Forest Service

Payette National Forest, ID; Proposed Grouse Creek Road Relocation

AGENCY: Forest Service, USDA.

ACTION: Cancellation of an environmental statement.

SUMMARY: In 2002, the USDA Forest Service, Intermountain Region, gave notice that the agency would prepare an environmental impact statement (EIS) for the relocation of the existing Grouse Creek Road (Forest Service Road 50325). The road is located on the Payette National Forest, McCall Ranger district, Near the Secesh River and within the Crystal Mountain Inventoried Roadless Area. Because the new road would have been located in an inventoried roadless area, the Regional Forester was the Responsible Official. The Notice of Intent (NOI) to prepare an EIS was published in the June 21, 2002 Federal Register (67 FR 42230). Since that time, review of the proposed project by research scientists and other Forest Service specialists has determined that improvements to the existing road would cause fewer impacts to critical fish resources than relocating the road. The identified improvements can be accomplished using normal road maintenance practices, which do not require preparation of an EIS. Therefore, the planned EIS is not needed, and the NOI is hereby rescinded.

FOR FURTHER INFORMATION CONTACT: Dan Anderson, Environmental Coordinator, Payette National Forest, McCall Ranger District, P.O. Box 1026, McCall, ID 83638, or by phone at (208) 634-0400, by fax at (208) 634-0433, or by e-mail: danderson02@fs.fed.us.

Dated: January 7, 2005.
Jack G. Troyer,
Intermountain Regional Forester.

[FR Doc. 05-997 Filed 1-18-05; 8:45 am]

BILLING CODE 3410-11-M